DEPARTMENT OF ENERGY

Federal Energy Regulatory Commission

[Docket No. CP02-97-000]

West Texas Gas Inc.; Notice of Application

March 11, 2002.

Take notice that on March 4, 2002, West Texas Gas, Inc. (WTG) filed in Docket No. CP02-97-000 an application, pursuant to Section 3 of the Natural Gas Act (NGA), Section 153, et seq., of the Commission's Regulations, for a Section 3 authorization and the Presidential Permit in order to site, construct, operate, and maintain certain natural gas facilities, all as more fully described below. This filing may be viewed on the web at http://www.ferc.gov using the “RIMS” link, select “Docket #” and follow the instructions (call (202) 208-2222 for assistance).

Specifically, WGT requests authorization to construct, operate, and maintain approximately 400 feet of 8-inch diameter pipeline (border crossing) at the International Boundary near Del Rio, Val Verde County, Texas for the delivery of up to 25,000 MMBtu per day of natural gas to Mexico. The border crossing, situated at the center of the Rio Grande River, will connect on the Mexico side with the pipeline facilities of Gas Natural Industrial, S.A de C. V. (GNI) and, on the U.S. side, with approximately nine miles of 8-inch diameter pipeline and related measurement and regulation equipment to be constructed, which will extend from WGT's existing Del Rio Lateral on its intrastate natural gas transmission system.

Any questions regarding the application should be directed to Richard D. Hatchett, Vice President, West Gas Texas, Inc., 211 North Colorado, Midland, Texas, or at (915) 682-4349.

There are two ways to become involved in the Commission's review of this project. First, any person wishing to obtain legal status by becoming a party to the proceedings for this project should, on or before April 1, 2002, file with the Federal Energy Regulatory Commission, 888 First Street, NE., Washington, DC 20426, a motion to intervene or a protest in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Interventions, comments, and protests may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Magalie R. Salas,
Secretary.

[FR Doc. 02-6242 Filed 3-15-02; 8:45 am]

BILLING CODE 6717-01-M